DEPARTMENT OF AGRICULTURE

Forest Service

Forest Service Manual 1800, Chapter 20

AGENCY: Forest Service, USDA.

ACTION: Notice of availability for public comment.

SUMMARY: The United States Department of Agriculture (USDA), Forest Service is proposing to issue a proposed directive to revise direction on workforce partnerships authorized by the Public Lands Corps Act as amended by the John D. Dingell, Jr. Conservation, Management, and Recreation Act of 2019. Directive revisions expand guidance regarding partnerships with non-profits, Tribes, universities and other organizations that offer community and national service, work experience and training to youth, young adults and veterans and help the Forest Service accomplish critical work; improve procedures and requirements to enroll young adults and veterans in work programs and on Forest Service units, using partnership agreements authorized by the Public Lands Corps and Resource Assistants Program statute; and, clarifies guidance about how young adults and others enrolled working with the Forest Service under these authorities can become eligible for special hiring pathways to Forest Service jobs.

DATES: Comments must be received in writing by July 6, 2021.

ADDRESSES: The proposed directive may be reviewed, and comments may be submitted electronically to https://cara.ecosystem-management.org/Public/CommentInput?project=ORMS-2661. Written comments may be mailed to Merlene Mazyck, Program Manager, Recreation, Heritage and Volunteers Resources Staff, 1400 Independence Avenue SW, Washington, DC 20250-1124. All timely received comments, including names and addresses, will be placed in the record and will be available for public inspection and copying. The public may inspect comments received at https://cara.ecosystem-management.org/Public/ReadingRoom?project=ORMS-2661.

FOR FURTHER INFORMATION CONTACT: Merlene Mazyck, Program Manager, SM.FS.WOVolServ@usda.gov, 202-306-9084. Individuals who use telecommunication devices for the hearing-impaired may call the Federal Relay Service at 800-877-8339 between 8:00 a.m. and 8:00 p.m., Eastern Daylight Time, Monday through Friday.

SUPPLEMENTARY INFORMATION: The 21st Century Conservation Service Corps (21CSC) is a public-private partnership that employs young adults, veterans, and emerging professionals to strengthen infrastructure, boost local economies and multiply returns on our country's most valuable assets: Its unmatched landscapes and people. A Public Lands Corps program, 21CSC projects support conservation priorities and develop the next generation of conservation stewards. The 21CSC projects are diverse and support all facets of Forest Service work. Program objectives are to build rural and urban economies, promote workforce development and hiring outcomes, address facility and maintenance backlogs and improve infrastructure, and increase public and private sector collaboration on Forest Service land management projects or programs.

The Resource Assistants Program (RAP) is a rigorous and immersive paid experience for U.S. citizens or permanent residents interested in natural and cultural resources careers who are at least 17 years old. Resource assistants are recruited by partner organizations and work under the direction of Forest Service staff to accomplish mission-critical work that develops leadership, critical thinking, and strategic communication skills. Through collaboration, coaching, and mentorship, resource assistants launch their careers and expand their understanding of our Nation's natural and cultural resources and land management priorities. Women and recent graduates from institutions of higher education, especially Historically Black Colleges and Universities, Hispanic-Serving Institutions, and Tribal Colleges and Universities, are strongly encouraged to apply to opportunities posted with our partner organizations. Program objectives are to attract and retain a diverse and inclusive workforce, accomplish mission-critical work and high priority projects, promote career exploration and professional development for recent graduates and underrepresented populations, and facilitate Forest Service coaching and mentoring of emerging professionals.

The Forest Service has determined that the changes to the manual formulate standards, criterion, or guidelines applicable to a Forest Service program and is therefore publishing the proposed manual for public comment in accordance with 36 CFR part 216. The Forest Service is seeking public comment on the proposed directive, including the sufficiency of the proposed directives in meeting its stated objectives, ways to enhance the utility and clarity of information within the direction, and ways to streamline processes outlined.

Forest Service National Environmental Policy Act procedures exclude from documentation in an environmental assessment or impact statement “rules, regulations, or policies to establish servicewide administrative procedures, program processes, or instructions.” 36 CFR 220.6(d)(2). The Agency's conclusion is that these proposed directives fall within this category of actions and that no extraordinary circumstances exist as currently defined that require preparation of an environmental assessment or an environmental impact statement.

After the public comment period closes, the Forest Service will consider timely comments that are within the scope of the proposed directives in the development of the final directives. A notice of the final directives, including a response to timely comments, will be posted on the Forest Service's web page at https://www.fs.fed.us/about-agency/regulations-policies.

Dated: May 28, 2021.
Tina Johna Terrell,
Acting Deputy Chief, National Forest System.

[FR Doc. 2021-11730 Filed 6-3-21; 8:45 am]

BILLING CODE 3411-15-P